SMALL BUSINESS ADMINISTRATION

[Declaration of Disaster #3492, Amdt. 2]

State of Mississippi

In accordance with a notice received from the Department of Homeland Security—Federal Emergency Management Agency, effective May 19, 2003, the above numbered declaration is hereby amended to include Pearl River and Marion Counties as disaster areas due to damages caused by severe storms, tornadoes and flooding beginning on April 6 and continuing through April 25, 2003.

In addition, applications for economic injury loans from small businesses located in the contiguous counties of Forrest, Lamar, Hancock, Harrison and Stone in the State of Mississippi; and St. Tammany Parish in the State of Louisiana may be filed until the specified date at the previously designated location. All other counties contiguous to the above named primary counties have been previously declared.

All other information remains the same, i.e., the deadline for filing applications for physical damage is June 23, 2003, and for economic injury the deadline is January 26, 2004.

(Catalog of Federal Domestic Assistance Program Nos. 59002 and 59008)
Dated: May 21, 2003.
Cheri C. Wolff,
Acting Associate Administrator for Disaster Assistance.

[FR Doc. 03-13280 Filed 5-28-03; 8:45 am]

BILLING CODE 8025-01-P